GENERAL SERVICES ADMINISTRATION

48 CFR Parts 511, 516, 532, 538, 546 and 552

[GSAR Amendment 2008-02; GSAR Case 2008-G517; Docket No. 2008-0007; Sequence No. 02]

RIN 3090-AI68

General Services Administration Acquisition Regulation; GSAR Case 2008-G517; Cooperative Purchasing-Acquisition of Security and Law Enforcement Related Goods and Services (Schedule 84) by State and Local Governments Through Federal Supply Schedules

AGENCY: Office of Acquisition Policy, General Services Administration (GSA).

ACTION: Final rule.

SUMMARY: The General Services Administration (GSA) is adopting as final, without change, an interim rule amending the General Services Administration Acquisition Regulation (GSAR) to implement The Local Preparedness Acquisition Act of 2008. The Act authorizes the Administrator of General Services to provide for the use by State or local governments of Federal Supply Schedules of the GSA safety equipment and services.

DATES: Effective Date: May 13, 2019.

FOR FURTHER INFORMATION CONTACT: Mr. Thomas O'Linn, Procurement Analyst, at 202-445-0390, for clarification of content. For information pertaining to status or publication schedules, contact the Regulatory Secretariat Division at 202-501-4755. Please cite GSAR Case 2008-G517.

SUPPLEMENTARY INFORMATION:

I. Background

As part of GSA's regulatory reform efforts, GSA has been performing a comprehensive review of the regulatory requirements in the GSAR. As a part of these efforts, GSA discovered that a Federal Register notification had not been published to finalize this interim rule. As a result, GSA included as part of the Fall edition of the Unified Agenda of Federal Regulatory and Deregulatory Actions in the Federal Register at 83 FR 58086 on November 16, 2018 its intention to publish a final rule notification in the Federal Register.

The purpose of this rule is the straightforward implementation of the statutory authority provided by Public Law 110-248, The Local Preparedness Acquisition Act to open Schedule 84 or any amended or subsequent version of that Federal supply classification group to cooperative purchasing. GSA exercised this authority effective on the date of publication of the interim rule. GSA published the interim rule in the Federal Register at 73 FR 54334, on September 19, 2008.

The interim rule was a straight implementation of the statute. No public comments were submitted in response to the interim rule. The program has been operating under the interim rule since 2008 without concern and with no statutory changes. Therefore, there are no changes from the interim rule made in the final rule. This action represents administrative clean-up for purposes of publishing a notification in the Federal Register of the finalization of this rule.

II. Discussion and Analysis

No public comments were submitted in response to the interim rule. Therefore, there are no changes from the interim rule made in the final rule.

III. Executive Order 12866 and 13563

Executive Orders (E.O.s) 12866 and 13563 direct agencies to assess all costs and benefits of available regulatory alternatives and, if regulation is necessary, to select regulatory approaches that maximize net benefits (including potential economic, environmental, public health and safety effects, distributive impacts, and equity). E.O. 13563 emphasizes the importance of quantifying both costs and benefits, of reducing costs, of harmonizing rules, and of promoting flexibility. This is not a significant regulatory action and, therefore, was not subject to review under section 6(b) of Executive Order 12866, Regulatory Planning and Review, dated September 30, 1993. This rule is not a major rule under 5 U.S.C. 804.

IV. Executive Order 13771

This final rule is not subject to E.O. 13771, because this rule is not a significant regulatory action under E.O. 12866.

V. Regulatory Flexibility Act

The change may have a significant economic impact on a substantial number of small entities within the meaning of the Regulatory Flexibility Act, 5 U.S.C. 601, et seq.

GSA has prepared a Final Regulatory Flexibility Analysis (FRFA) consistent with the Regulatory Flexibility Act, 5 U.S.C. 601, et seq. The FRFA is summarized as follows:

In order to implement Public Law 110-248, The Local Preparedness Acquisition Act, GSA is adopting as final the interim rule as laid out in GSAR Case 2008-G517, which published in the Federal Register at 73 FR 54334, on September 19, 2008. The Act amends section 502 of Title 40, United States Code, to authorize the Administrator of General Services to provide for the use by State or local governments of Federal Supply Schedules of the General Services Administration (GSA) for alarm and signal systems, facility management systems, firefighting and rescue equipment, law enforcement and security equipment, marine craft and related equipment, special purpose clothing, and related services (as contained in Federal supply classification code group 84 or any amended or subsequent version of that Federal supply classification group). The rule opens the Federal Supply Schedule 84 for use by other governmental entities to enhance intergovernmental cooperation. The objective of this rule is to make “government” (considering all levels) more efficient by reducing duplication of effort and utilizing volume purchasing techniques for the acquisition of law enforcement, security, and certain other related items.

No public comments were submitted in response to the interim rule. Therefore, there are no changes from the interim rule made in the final rule.

Interested parties may obtain a copy of the FRFA from the Regulatory Secretariat Division. The Regulatory Secretariat Division has submitted a copy of the FRFA to the Chief Counsel for Advocacy of the Small Business Administration.

VI. Paperwork Reduction Act

The Paperwork Reduction Act (44 U.S.C. chapter 35) does apply; however, these changes to the GSAR do not impose additional information collection requirements to the paperwork burden previously approved under the Office of Management and Budget Control Number 3090-0250, titled: Zero Burden Information Collection Reports.

List of Subjects in 48 CFR Parts 511, 516, 532, 538, 546, and 552

Government procurement.

Jeffrey Koses,
Senior Procurement Executive, Office of Acquisition Policy, Office of Government-wide Policy.

Interim Rule Adopted as Final Without Change

Accordingly, the interim rule amending 48 CFR parts 511, 516, 532, 538, 546, and 552, which was published in the Federal Register at 73 FR 54334, on September 19, 2008, is adopted as a final rule without change.

[FR Doc. 2019-07171 Filed 4-10-19; 8:45 am]

BILLING CODE P